MERIT SYSTEMS PROTECTION BOARD

Agency Information Collection Activities; Proposed Collection

AGENCY: Merit Systems Protection Board.

ACTION: Notice.

SUMMARY: In compliance with the Paperwork Reduction Act (44 U.S.C. 3501 et seq.), this notice announces that the Merit Systems Protection Board (MSPB) request for a three-year reinstatement of its expired Generic Clearance Request for Voluntary Customer Surveys under Executive Order 12862, “Setting Customer Service Standards,” has been forwarded to the Office of Management and Budget (OMB) for review and comment. The original approval for this information collection was provided by OMB on February 28, 1994, as a three-year generic clearance request for voluntary customer surveys under Executive Order 12862, “Setting Customer Service Standards,” and in accord with 44 U.S.C. 3506. Surveys under this approval are assigned OMB Control Number 3124-0012. That approval expired on February 28, 1997. A limited-term approval from OMB reinstated that authority through April 30, 2001.

In this regard, we are soliciting comments on the public reporting burden. The reporting burden for the collection of information on this form is estimated to vary from 10 minutes to 30 minutes per response, with an average of 15 minutes, including time for reviewing instructions, searching existing data sources, gathering and maintaining the data needed, and completing and reviewing the collection of information.

Estimated Annual Reporting Burden

5 CFR section | Annual number of respondents | Frequency per response | Total annual responses | Hours per response (average) | Total hours
1201, 1208 and 1209 | 2,000 | 1 | 1,500 | .25 | 375

Send comments regarding the burden estimate, or any other aspect of the information collection, including suggestions for reducing the burden, to the address shown below. Please refer to OMB Control No. 3124-0012 in any correspondence.

DATES: Comments must be received on or before June 18, 2001.

ADDRESSES: Comments concerning the paperwork burden should be addressed to Mr. John Crum, Merit Systems Protection Board, 1615 M Street, NW., Washington, DC 20419, by e-mail to john.crum@mspb.gov, or by calling (202) 653-8900, and to the Office of Information and Regulatory Affairs, Office of Management and Budget, Attention: Desk Officer for MSPB, 725—17th Street NW., Washington, DC 20503.

Dated: May 14, 2001.
Robert E. Taylor,
Clerk of the Board.

[FR Doc. 01-12499 Filed 5-17-01; 8:45 am]

BILLING CODE 7400-01-U